COMMISSION ON CIVIL RIGHTS

Notice of Public Meeting of the Indiana Advisory Committee to hear Testimony Regarding Civil Rights and the School to Prison Pipeline in Indiana

AGENCY: U.S. Commission on Civil Rights.

ACTION: Announcement of meeting.

SUMMARY: Notice is hereby given, pursuant to the provisions of the rules and regulations of the U.S. Commission on Civil Rights (Commission) and the Federal Advisory Committee Act that the Indiana Advisory Committee (Committee) will hold a meeting on Wednesday, February 17, 2016, from 8:00 a.m.-5:00 p.m. EST. The Committee will hear testimony regarding school discipline policies and practices which may facilitate disparities in juvenile justice involvement and youth incarceration rates on the basis of race, color, disability, or sex, in what has become known as the “School to Prison Pipeline.”

This meeting is open to the public, and will take place at Ivy Tech Community College Event Center, 2820 North Meridian Street in Indianapolis, IN, 46208. Members of the public are invited to make statements during the open comment period beginning at 4:15 p.m. In addition, members of the public may submit written comments; the comments must be received in the regional office within 30 days following the meeting. Written comments may be mailed to the Regional Programs Unit, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records and documents discussed during the meeting will be available for public viewing prior to and following the meeting at https://database.faca.gov/committee/meetings.aspx?cid=247 and following the links for “Meeting Details” and then “Documents.” Records generated from this meeting may also be inspected and reproduced at the Regional Programs Unit, as they become available, both before and after the meeting. Persons interested in the work of this Committee are directed to the Commission's Web site, http://www.usccr.gov, or may contact the Regional Programs Unit at the above email or street address.

Agenda (subject to change based on panelist confirmation and public participation needs)

Opening Remarks and Introductions (8:00 a.m.-8:15 a.m.)

Panel 1: Academic (8:15 a.m.-9:30 a.m.)

• Russell Skiba, Ph.D. Professor in Counseling and Educational Psychology at Indiana University; Director of The Equity Project

• Laura McNeal, Ph.D. Assistant Professor of Law at The University of Louisville Brandeis School of Law

• Monica Solinas-Saunders, Ph.D. Assistant Professor of Criminal Justice, Indiana University Northwest

• Alex Lichtenstein, Ph.D., Assistant Professor of History, Indiana University

• Marvin Lynn, Ph.D., Professor and Dean of the School of Education at Indiana University South Bend

Panel 2: Community (9:45 a.m.-11:00 a.m.)

• Patricia Howey, Special Education Advocate

• Veronica Cortez, Staff Attorney, Mexican American Legal Defense and Educational Fund (MALDEF)

• Diana M. Daniels, Executive Director of The National Council on Educating Black Children in Indianapolis

• JauNae Hanger, President, Children's Policy and Law Initiative of Indiana

• Rev. Janette Wilson, Esq., National Director of RainbowPUSH Excel

Panel 3: Government (11:15 a.m.-12:30 p.m.)

• Julie Smart, Program Coordinator for School Social Work and McKinney-Vento Education Coordinator, Indiana Department of Education

• Susan Lockwood, Director of Juvenile Education, Indiana Department of Correction

• Kenneth Allen, Vice Chair, Indiana Commission on the Social Status of Black Males

• Melissa Keyes, Director of Legal & Advocacy Services, Indiana Protection & Advocacy Services (IPAS)

Break (12:30-1:30 p.m.)

Panel 4: School Personnel and Administrators (1:30 p.m.-2:45 p.m.)

• Carol Kilver, Assistant Superintendent for Secondary Instruction, Lafayette Community Schools

• Sheila Huff, Principal, Bosse High School in Evansville

• Cheryl Pruitt, Ph.D., Superintendent of the Gary Schools Corporation

• Carole Schmidt, Superintendent of South Bend Community School Corporation

• Cynthia Jackson, District Positive Discipline Coordinator, Indianapolis Public Schools

Panel 5: Educators (3:00 p.m.-4:15 p.m.)

• Indiana State Teachers Association Representative

• GlenEva Dunham, Gary Teachers Association President

• South Bend Schools teacher representative

• Indianapolis Public Schools teacher representative

Open Forum (4:15 p.m.-4:45 p.m.)

Closing Remarks (4:45 p.m.-5:00 p.m.)

DATES: The meeting will be held on Wednesday February 17, 2016, from 8:00 a.m.—5:00 p.m. EST.

FOR FURTHER INFORMATION CONTACT: Melissa Wojnaroski, DFO, at 312-353-8311 or mwojnaroski@usccr.gov.

Dated: January 22, 2016.
David Mussatt,
Chief, Regional Programs Unit.

[FR Doc. 2016-01673 Filed 1-27-16; 8:45 am]

BILLING CODE 6335-01-P